DEPARTMENT OF HEALTH AND HUMAN SERVICES

Health Resources and Services Administration

Graduate Psychology Education Program

AGENCY: Health Resources and Services Administration, HHS.

ACTION: Notice of Class Deviation from Competition Requirements for Graduate Psychology Education Program from Open to Limited Competition.

SUMMARY: The Health Resources and Services Administration (HRSA) is issuing a limited competition for awards among the 40 current Graduate Psychology Education (GPE) Program grantees whose project periods end June 30, 2016. No more than $1,000,000 will be made available in federal fiscal year (FY) 2015 in the form of 1-year project period grants. These awards are specifically for interprofessional training of doctoral psychology graduate students and interns to address the psychological needs of military personnel, veterans, and their families in civilian and community-based settings, including those in rural areas. An estimated five grants will be awarded with a ceiling amount of $190,000 per grant for 1 year. These funds will be used to establish, expand, and/or enhance activities that were funded under the FY 2013 GPE Program.

Program funds are to be used for stipend support for interns and doctoral students, faculty development, curriculum and instructional design, program content enhancement, program infrastructure development, and the supervision and training support of interns.

SUPPLEMENTARY INFORMATION:

Eligible Grant Recipients:

Grant number | Organization name | City | State | FY 2014 funds awarded
D40HP26855 | ADLER SCHOOL OF PROFESSIONAL PSYCHOLOGY, INC. | Chicago | IL | $160,470.00
D40HP02597 | BOARD OF REGENTS/UNIV OF NEBRASKA MED CTR | Omaha | NE | 190,000.00
D40HP26856 | CARSON CENTER FOR HUMAN SERVICES INC | Westfield | MA | 179,555.00
D40HP26374 | CHEROKEE HEALTH SYSTEMS | Knoxville | TN | 123,536.00
D40HP26857 | CHILDREN'S HEALTHCARE OF CALIFORNIA | Orange | CA | 155,880.00
D40HP25714 | CHILDRENS HOSPITAL OF PHILADELPHIA | Philadelphia | PA | 152,421.00
D40HP26858 | DENVER HEALTH AND HOSPITALS AUTHORITY | Denver | CO | 136,747.00
D40HP26859 | EASTERN VIRGINIA MEDICAL SCHOOL | Norfolk | VA | 189,166.00
D40HP26910 | FAIRLEIGH DICKINSON UNIVERSITY | Teaneck | NJ | 169,605.00
D40HP26911 | FORDHAM UNIVERSITY | Bronx | NY | 134,111.00
D40HP26860 | GEORGIA HEALTH SCIENCES UNIVERSITY RESEARCH INSTITUTE, INC | Augusta | GA | 147,726.00
D40HP19643 | GEORGIA STATE UNIVERSITY RESEARCH FOUNDATION | Atlanta | GA | 186,287.00
D40HP25715 | HENRY FORD HEALTH SYSTEM | Detroit | MI | 171,524.00
D40HP26861 | I OLA LAHUI, INC. | Honolulu | HI | 184,312.00
D40HP25716 | INDIAN HEALTH CARE RESOURCE CENTER OF TULSA INC | Tulsa | OK | 146,717.00
D40HP26862 | MARSHALL UNIVERSITY RESEARCH CORPORATION | Huntington | WV | 189,346.00
D40HP25774 | MEDICAL UNIVERSITY OF SOUTH CAROLINA | Charleston | SC | 142,568.00
D40HP25718 | NEMOURS FOUNDATION, THE | Wilmington | DE | 128,386.00
D40HP26863 | NEW MEXICO STATE UNIVERSITY | Las Cruces | NM | 190,000.00
D40HP26864 | NEW YORK UNIVERSITY (INC) | New York | NY | 148,799.00
D40HP25719 | NORTHWESTERN UNIVERSITY | Evanston | IL | 184,188.00
D40HP26865 | OREGON HEALTH & SCIENCE UNIVERSITY | Portland | OR | 173,199.00
D40HP26866 | REGENTS OF THE UNIVERSITY OF COLORADO, THE | Colorado Springs | CO | 161,425.00
D40HP26912 | TEACHERS COLLEGE, COLUMBIA UNIVERSITY | New York | NY | 171,037.00
D40HP28075 | THE CHILDRENS HOSPITAL LOS ANGELES | Los Angeles | CA | 162,845.00
D40HP26868 | UNIVERSITY OF CALIFORNIA, DAVIS | Davis | CA | 190,000.00
D40HP25720 | UNIVERSITY OF MARYLAND | Baltimore | MD | 189,206.00
D40HP26869 | UNIVERSITY OF MISSOURI SYSTEM | Kansas City | MO | 167,413.00
D40HP25721 | UNIVERSITY OF NEVADA, RENO | Reno | NV | 149,521.00
D40HP26870 | UNIVERSITY OF NORTH CAROLINA AT CHAPEL HILL | Chapel Hill | NC | 51,731.00
D40HP25722 | UNIVERSITY OF NORTH CAROLINA AT GREENSBORO | Greensboro | NC | 186,189.00
D40HP19636 | UNIVERSITY OF NORTH DAKOTA | Grand Forks | ND | 189,972.00
D40HP26871 | UNIVERSITY OF OKLAHOMA | Oklahoma City | OK | 166,967.00
D40HP02600 | UNIVERSITY OF ROCHESTER MEDICAL CENTER | Rochester | NY | 187,141.00
D40HP25723 | UNIVERSITY OF TEXAS AT AUSTIN | Austin | TX | 146,904.00
D40HP19642 | UNIVERSITY OF WASHINGTON | Seattle | WA | 153,005.00
D40HP26872 | VILLAGE FOR FAMILIES & CHILDREN, THE | Hartford | CT | 139,123.00
D40HP25724 | VIRGINIA COMMONWEALTH UNIVERSITY | Richmond | VA | 165,967.00
D40HP26873 | WAYNE STATE UNIVERSITY (INC) | Detroit | MI | 185,046.00
D40HP26874 | WIDENER UNIVERSITY | Chester | PA | 190,000.00

Amount of Competitive Awards: Ceiling up to $190,000 per grant.

Period of Supplemental Funding: Project Period July 1, 2015, to June 30, 2016.

CFDA Number: 93.191.

Authority: Title VII, Sections 750 and 755(b)(1)(J) of the Public Health Service (PHS) Act (42 U.S.C. 294 and 42 U.S.C. 294e(b)(1)(J)).

Justification: The FY 2015 Appropriations Bill included funds for the GPE Program specifically to address the psychological needs of military personnel, veterans, and their families in civilian and community-based settings, including those in rural areas. Current grants have existing structures and expertise in place that would require minimal start-up time for new grant implementation. For internship programs, there is only one opportunity to fill the slots as the Association of Postdoctoral Internship Centers' (APPIC) match for interns is in February. Internships begin in July/August, and if awards are made early enough, current grantees may be able to identify “unmatched students.”

FOR FURTHER INFORMATION CONTACT: Cynthia Harne, Public Health Analyst, Division of Nursing and Public Health, Behavioral and Public Health Branch, Bureau of Health Workforce, HRSA, 5600 Fishers Lane, Room 9-89, Rockville, Maryland 20857, phone (301) 443-7661, fax (301) 443-0791, or email charne@hrsa.gov.

Dated: May 28, 2015.
James Macrae,
Acting Administrator.

[FR Doc. 2015-13461 Filed 6-2-15; 8:45 am]

BILLING CODE 4165-15-P